ENVIRONMENTAL PROTECTION AGENCY

[EPA-R05-RCRA-2017-0198; FRL-9963-62—Region 5]

Michigan: Notice of Determination of Adequacy of Michigan's Research, Development and Demonstration (RD&D) Permit Provisions for Municipal Solid Waste Landfills (MSWLF)

AGENCY: Environmental Protection Agency (EPA).

ACTION: Notice.

SUMMARY: On May 10, 2016, EPA issued a revision to the regulations allowing RD&D permits to increase the number of permit renewals allowed to six, for a total permit term of up to 21 years.

On February 15, 2017, Michigan Department of Environmental Quality (MDEQ) submitted a notification to EPA Region 5 seeking Federal approval of its revised RD&D requirements. Subject to public review and comment, this document approves Michigan's revised RD&D permit requirements.

DATES: This determination of adequacy of the RD&D permit program for Michigan will become effective August 18, 2017 unless adverse comments are received. If adverse comments are received, EPA will review those comments and publish another Federal Register document responding to those comments and either affirm or revise EPA's initial decision. Comments on this determination of adequacy must be received on or before July 19, 2017.

ADDRESSES: Submit your comments, identified by Docket ID No. EPA-R05-RCRA-2017-0198, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should discussion of all points you wish to make. The EPA will generally not consider comments or comment contents located outside of the primary submission (i.e. on the web, cloud, or other file sharing system). For additional submission methods, the full EPA public comment policy, information about CBI or multimedia submissions, and general guidance on making effective comments, please visit http://www2epa.gov/dockets/commenting-epa-dockets.

FOR FURTHER INFORMATION CONTACT: Cynthia Meyer, U.S. EPA Region 5, Land and Chemicals Division, 77 West Jackson Boulevard LM-16J, Chicago, Illinois 60604, (312) 886-5868, meyer.cynthia@epa.gov.

SUPPLEMENTARY INFORMATION:

A. Background

On March 22, 2004, EPA issued a final rule amending the MSWLF criteria in 40 CFR part 258 to allow for RD&D permits (69 FR 13242). This rule allows for variances from specified criteria for a limited period of time, to be implemented through state-issued RD&D permits. RD&D permits are available only in states with approved MSWLF permit programs that have been modified to incorporate RD&D permit authority. On May 10, 2016, the EPA issued a revision to the regulations allowing RD&D permits to increase the number of permit renewals allowed to six, for a total permit term of up to 21 years (40 CFR 258.4).

While states are not required to incorporate this new provision, those states interested in providing RD&D permits must seek approval from EPA before issuing such permits. On October 30, 2006, Michigan received approval of its RD&D permit program (71 FR 51614). On February 15, 2017, MDEQ submitted a notification to EPA Region 5 seeking Federal approval of its revised RD&D requirements per the procedures in 40 CFR 239.12. Michigan's revised RD&D provisions can be found in Part 115 of the Natural Resources and Environmental Protection Act as amended by 2016 PA 437.

B. Decision

EPA has made a determination that the Michigan RD&D permit provisions as set out in Part 115 of the Natural Resources and Environmental Protection Act as amended by 2016 PA 437 comply with the Federal criteria, as set forth in 40 CFR 258.4.

Authority: This action is issued under the authority of section 2002, 4005 and 4010(c) of the Solid Waste Disposal Act, as amended, 40 U.S.C. 6912, 6945 and 6949(a).

Dated: May 29, 2017.
Robert A. Kaplan,
Acting Regional Administrator, Region 5.

[FR Doc. 2017-12733 Filed 6-16-17; 8:45 am]

BILLING CODE 6560-50-P